DEPARTMENT OF THE INTERIOR

Fish and Wildlife Service

[FWS-R2-ES-2010-N167; 20124-1113-0000-C2]

Endangered and Threatened Wildlife and Plants; Draft Ocelot (Leopardus pardalis) Recovery Plan, First Revision

AGENCY: Fish and Wildlife Service, Interior.

ACTION: Notice of document availability for public review.

SUMMARY: We, the U.S. Fish and Wildlife Service (Service), announce the availability of the Draft Ocelot (Leopardus pardalis) Recovery Plan, First Revision. We request review and comment from the public on this draft revised recovery plan. We will also accept any new information on the status of the ocelot throughout its range to assist in finalizing the revised recovery plan.

DATES: To ensure consideration, we must receive any comments no later than October 25, 2010.

ADDRESSES: An electronic copy of the recovery plan can be obtained from our Web site at http://www.fws.gov/southwest/es/Library/. Copies of the recovery plan are also available by request. To obtain a copy, contact Jody Mays by U.S. mail at Laguna Atascosa National Wildlife Refuge, 22817 Ocelot Road, Los Fresnos, TX 78566; by phone at (956) 748-3607; or by e-mail at Jody_Mays@fws.gov. Written comments and materials on the draft revised recovery plan may be mailed to Jody Mays at the address above.

FOR FURTHER INFORMATION CONTACT: Jody Mays (see ADDRESSES).

SUPPLEMENTARY INFORMATION:

Background

The Endangered Species Act of 1973 (Act), as amended (16 U.S.C. 1531 et seq.), requires the development of recovery plans for listed species unless such a plan would not promote the conservation of a particular species. Recovery plans help guide the recovery effort by describing actions considered necessary for the conservation of the species, and estimating time and costs for implementing the measures needed for recovery. A recovery plan was originally completed for the ocelot in 1990 (The Listed Cats of Texas and Arizona Recovery Plan), but the recommendations contained in that plan are outdated given the species' current status.

Section 4(f) of the Act requires that we provide public notice and an opportunity for public review and comment during recovery plan development. We will consider all information presented during a public comment period prior to approval of each new or revised recovery plan. We will also take these comments into account in the course of implementing recovery actions. In fulfillment of this requirement, we are making this draft first revision of the recovery plan for the ocelot available for a 60-day public comment period.

The ocelot was listed as an endangered foreign species in 1972 under the authority of the Endangered Species Conservation Act of 1969 (37 FR 6476; March 30, 1972). Following passage of the Endangered Species Act in 1973, the ocelot was included on the January 4, 1974 (39 FR 1158; January 4, 1974), list of “Endangered Foreign Wildlife” that “grandfathered” species from the lists under the 1969 Endangered Species Conservation Act into a new list under the ESA. Endangered status was extended to ocelots in the U.S. portion of the species' range for the first time, with a final rule published July 21, 1982 (47 FR 31670). In that rule, we made a determination that designation of critical habitat was not prudent, because such a designation would not be in the best interests of conservation of the species. Currently, the ocelot is listed as endangered throughout its range, from southern Texas and southern Arizona through Central and South America into northern Argentina and Uruguay.

The ocelot requires dense vegetation (more than 75 percent canopy cover), with 95 percent cover preferred in Texas. Habitats used by the ocelot throughout its range vary from tropical rainforest, pine forest, gallery forest, riparian forest, semideciduous forest, and dry tropical forest, to savanna, shrublands, and marshlands. Contiguous areas of vegetation are necessary for ocelot dispersal. In south Texas, 2 remaining ocelot populations of less than 25 total known individuals inhabit dense thornscrub communities on the Lower Rio Grande Valley and Laguna Atascosa National Wildlife Refuges, as well as on private lands. Its prey consists primarily of rabbits, rodents, birds, and lizards.

In November 2009, an ocelot was documented in Arizona with the use of camera traps for the first time since 1964, when the last known ocelot in Arizona was legally shot. However, a number of ocelots have been recently documented 30-35 miles south of the Arizona border in Sonora, Mexico.

Habitat conversion, fragmentation, and loss, comprise the primary threats to the ocelot today. In Texas, over 95 percent of the dense thornscrub habitat in the Lower Rio Grande Valley has been converted to agriculture, rangelands, or urban land uses. Small population sizes in Texas and isolation from conspecifics in Mexico endanger the ocelot in Texas with genetic impoverishment and increased susceptibility to stochastic (random) events. Connectivity among ocelot populations or colonization of new habitats is discouraged by the proliferation of highways and increased road mortality among dispersing ocelots. Issues associated with developing and patrolling the boundary between the United States and Mexico further exacerbate the isolation of Texas ocelots from those in Mexico.

While the draft ocelot recovery plan considers the ocelot throughout its range, its major focus is on two cross-border management units, the Texas/Tamaulipas Management Unit and the Arizona/Sonora Management Unit. The draft ocelot recovery plan includes scientific information about the species and provides objectives and actions needed for recovery and to ultimately remove it from the list of threatened and endangered species. Recovery actions include:

• Assessment, protection, reconnection, and restoration of sufficient habitat to support viable populations of the ocelot in the borderlands of the United States and Mexico;

• Reduction of effects of human population growth and development to ocelot survival and mortality;

• Maintenance or improvement of genetic fitness, demographic conditions, and health of the ocelot;

• Assurance of long-term viability of ocelot conservation through partnerships, the development and application of incentives for landowners, application of existing regulations, and public education and outreach;

• Use of adaptive management, in which recovery is monitored and recovery tasks are revised by the Service in coordination with the Ocelot Recovery Team as new information becomes available; and

• Support of international efforts to ascertain the status of and conserve the ocelot south of Tamaulipas and Sonora.

Public Comments

We are accepting written comments and information during this comment period on the revised draft recovery plan. All comments received by the date specified above will be considered prior to approval of the final recovery plan. Comments and materials we receive will be available for public inspection, by appointment, during normal business hours at the Laguna Atascosa National Wildlife Refuge (see ADDRESSES).

Before including your address, phone number, e-mail address, or other personal identifying information in your comment, you should be aware that your entire comment, including your personal identifying information, may be made publically available at any time. While you can ask us in your comment to withhold your personal identifying information from public review, we cannot guarantee that we will be able to do so.

Authority: The authority for this action is section 4(f) of the Endangered Species Act, 16 U.S.C. 1533(f).

Dated: August 4, 2010.
Joy E. Nicholopoulos,
Regional Director, Region 2.

[FR Doc. 2010-21249 Filed 8-25-10; 8:45 am]

BILLING CODE 4310-55-P